DEPARTMENT OF ENERGY

10 CFR Chs. II, III, and X

48 CFR Ch. 9

Fall 2022 Unified Agenda of Regulatory and Deregulatory Actions

AGENCY: Department of Energy.

ACTION: Semiannual Regulatory Agenda.

SUMMARY: The Department of Energy (DOE) has prepared and is making available its portion of the semi-annual Unified Agenda of Federal Regulatory and Deregulatory Actions (Agenda), including its Regulatory Plan (Plan), pursuant to Executive Order 12866, “Regulatory Planning and Review,” and the Regulatory Flexibility Act.

SUPPLEMENTARY INFORMATION: The Agenda is a government-wide compilation of upcoming and ongoing regulatory activity, including a brief description of each rulemaking and a timetable for action. The Agenda also includes a list of regulatory actions completed since publication of the last Agenda. The Department of Energy's portion of the Agenda includes regulatory actions called for by the Energy Policy and Conservation Act, as amended, and programmatic needs of DOE offices.

The internet is the basic means for disseminating the Agenda and providing users the ability to obtain information from the Agenda database. DOE's entire Fall 2022 Regulatory Agenda can be accessed online by going to www.reginfo.gov.

Publication in the Federal Register is mandated by the Regulatory Flexibility Act (5 U.S.C. 602) only for Agenda entries that require either a regulatory flexibility analysis or periodic review under section 610 of that Act. The Plan appears in both the online Agenda and the Federal Register and includes the most important of DOE's significant regulatory actions and a Statement of Regulatory and Deregulatory Priorities.

Samuel Walsh,
General Counsel.

Energy Efficiency and Renewable Energy—Proposed Rule Stage
Sequence No. | Title | Regulation Identifier No.
291 | Energy Conservation Standards for Residential Conventional Cooking Products | 1904-AD15

Energy Efficiency and Renewable Energy—Final Rule Stage
Sequence No. | Title | Regulation Identifier No.
292 | Energy Conservation Standards for Residential Non-Weatherized Gas Furnaces and Mobile Home Gas Furnaces (Reg Plan Seq No. 48) | 1904-AD20
293 | Energy Conservation Standards for Commercial Water Heating-Equipment | 1904-AD34
294 | Test Procedure for Consumer Water Heaters and Residential-Duty Commercial Water Heaters | 1904-AE77
References in boldface appear in The Regulatory Plan in part II of this issue of the Federal Register.

Energy Efficiency and Renewable Energy—Completed Actions
Sequence No. | Title | Regulation Identifier No.
295 | Energy Conservation Standards for General Service Lamps | 1904-AD09
296 | Test Procedure for Ceiling Fans | 1904-AD88
297 | Test Procedures for Dehumidifying Direct-Expansion Dedicated Outdoor Air Systems | 1904-AE46
298 | Test Procedure for Battery Chargers | 1904-AE49
299 | Test Procedures for Electric Motors | 1904-AE62
300 | Test Procedure for Cooking Tops | 1904-AF18

DEPARTMENT OF ENERGY (DOE)

Energy Efficiency and Renewable Energy (EE)

Proposed Rule Stage

291. Energy Conservation Standards for Residential Conventional Cooking Products [1904-AD15]

Legal Authority: 42 U.S.C. 6295(m)(1); 42 U.S.C. 6292 (a)(10); 42 U.S.C. 6295(h)

Abstract: The Energy Policy and Conservation Act (EPCA), as amended by Energy Independence and Security Act of 2007 (EISA), prescribes energy conservation standards for various consumer products, including consumer conventional cooking products. EPCA also requires the U.S. Department of Energy (DOE) to periodically determine whether more stringent standards would be technologically feasible and economically justified and would result in a significant conservation of energy. In this rulemaking, DOE is considering whether to update energy conservation standards for consumer conventional cooking products in order to fulfill its statutory deadline for amending energy conservation standards for cooking products under 42 U.S.C. 6295(m)(1). In 2020, DOE tentatively determined that amended energy conservation standards for consumer conventional cooking products would not be economically justified and would not result in significant energy savings. DOE re-evaluates this determination of whether amending standards for cooking products would result in significant energy savings.

Timetable:

Action | Date | FR Cite
Request for Information (RFI) | 02/12/14 | 79 FR 8337
RFI Comment Period End | 03/14/14
RFI Comment Period Extended | 03/03/14 | 79 FR 11714
RFI Comment Period Extended End | 04/14/14
NPRM and Public Meeting | 06/10/15 | 80 FR 33030
NPRM Comment Period Extended | 07/30/15 | 80 FR 45452
NPRM Comment Period Extended End | 09/09/15
Supplemental NPRM | 09/02/16 | 81 FR 60784
SNPRM Comment Period Extended | 09/30/16 | 81 FR 67219
SNPRM Comment Period Extended End | 11/02/16
Notice of Proposed Determination and Request for Comment | 12/14/20 | 85 FR 80982
Notice of Proposed Determination Comment Period End | 03/01/21
Second SNPRM | 01/00/23

Regulatory Flexibility Analysis Required: Yes.

Agency Contact: Stephanie Johnson, General Engineer, Department of Energy, Energy Efficiency and Renewable Energy, 1000 Independence Avenue SW, Building Technologies Office, EE5B, Washington, DC 20585, Phone: 202 287-1943, Email: stephanie.johnson@ee.doe.gov.

RIN: 1904-AD15

DEPARTMENT OF ENERGY (DOE)

Energy Efficiency and Renewable Energy (EE)

Final Rule Stage

292. Energy Conservation Standards for Residential Non-Weatherized Gas Furnaces and Mobile Home Gas Furnaces [1904-AD20]

Regulatory Plan: This entry is Seq. No. 48 in part II of this issue of the Federal Register.

RIN: 1904-AD20

293. Energy Conservation Standards for Commercial Water Heating-Equipment [1904-AD34]

Legal Authority: 42 U.S.C. 6313(a)(6)(C)(i) and (vi)

Abstract: The U.S. Department of Energy (DOE) is undertaking a rulemaking to amend energy conservation standards for commercial water heaters. Once completed, this rulemaking will fulfill DOE's statutory obligation under the Energy Policy and Conservation Act, as amended, (EPCA) to either propose amended energy conservation standards for commercial water heaters and hot water supply boilers (CWHs), or determine that the existing standards do not need to be amended. (Unfired hot water storage tanks and commercial heat pump water heaters are being considered in a separate rulemaking.) DOE must determine whether national standards more stringent than those that are currently in place would result in a significant additional amount of energy savings and whether such amended national standards would be technologically feasible and economically justified. DOE proposed to amend the standards for certain classes of CWH equipment for which DOE has tentatively determined there is clear and convincing evidence to support more-stringent standards. Additionally, DOE has proposed to codify standards for electric instantaneous CWH equipment from EPCA into the Code of Federal Regulations.

Timetable:

Action | Date | FR Cite
Request for Information (RFI) | 10/21/14 | 79 FR 62899
RFI Comment Period End | 11/20/14
NPRM | 05/31/16 | 81 FR 34440
NPRM Comment Period End | 08/01/16
NPRM Comment Period Reopened | 08/05/16 | 81 FR 51812
NPRM Comment Period Reopened End | 08/30/16
Notice of Data Availability (NODA) | 12/23/16 | 81 FR 94234
NODA Comment Period End | 01/09/17
Notice of NPRM Withdrawal | 01/15/21 | 86 FR 3873
NPRM | 05/19/22 | 87 FR 30610
NPRM Comment Period End | 07/18/22
NPRM Comment Period Reopened | 07/20/22 | 87 FR 43226
NPRM Comment Period End | 08/01/22
Final Action | 07/00/23

Regulatory Flexibility Analysis Required: Yes.

Agency Contact: Julia Hegarty, Department of Energy, 1000 Independence Avenue SW, Washington, DC 20585, Phone: 240 597-6737, Email: julia.hegarty@ee.doe.gov.

RIN: 1904-AD34

294. Test Procedure for Consumer Water Heaters and Residential-Duty Commercial Water Heaters [1904-AE77]

Legal Authority: 42 U.S.C. 6293(b)(1)(A); 42 U.S.C. 6314(a)(1)

Abstract: Consistent with the requirements under the Energy Policy and Conservation Act (EPCA), as amended, the U.S. Department of Energy (DOE) is examining whether to amend the current test procedure for consumer water heaters and certain commercial water heaters found at 10 CFR 430, subpart B, appendix E and 10 CFR 431.106. As a result of this effort, DOE may propose and amend the test procedures for this product/equipment, or issue a determination that no amendments to the current test procedures are required.

Timetable:

Action | Date | FR Cite
Request for Information (RFI) | 04/16/20 | 85 FR 21104
RFI Comment Period End | 06/01/20
RFI Comment Period Reopened | 06/10/20 | 85 FR 35382
RFI Comment Period Reopened End | 06/24/20
NPRM | 01/11/22 | 87 FR 1554
NPRM; Correction | 01/19/22 | 87 FR 2731
NPRM Comment Period End | 03/14/22
Supplemental NPRM | 07/14/22 | 87 FR 42270
Supplemental NPRM Comment Period End | 08/04/22
Final Action | 12/00/22

Regulatory Flexibility Analysis Required: Yes.

Agency Contact: Julia Hegarty, Department of Energy, 1000 Independence Avenue SW, Washington, DC 20585, Phone: 240 597-6737, Email: julia.hegarty@ee.doe.gov.

RIN: 1904-AE77

DEPARTMENT OF ENERGY (DOE)

Energy Efficiency and Renewable Energy (EE)

Completed Actions

295. Energy Conservation Standards for General Service Lamps [1904-AD09]

Legal Authority: 42 U.S.C. 6295(i)(6)(A); 42 U.S.C. 6295(i)(6)(B)

Abstract: Amendments to the Energy Policy and Conservation Act (EPCA) in the Energy Independence and Security Act of 2007 (EISA) direct the U.S. Department of Energy (DOE) to conduct two rulemaking cycles to evaluate energy conservation standards for general service lamps (GSLs). EISA specifically states that the scope of the rulemaking is not limited to incandescent lamp technologies. EISA also states that DOE must consider in the first rulemaking cycle the minimum backstop requirement of 45 lumens per watt (lm/W) for GSLs effective January 1, 2020. Pursuant to this authority, in 2014, DOE initiated a rulemaking to determine whether to amend or adopt standards for GSLs. Because DOE ultimately failed to complete the first cycle of GSL rulemaking in accordance with statutory criteria, in 2022, DOE finalized a rulemaking establishing the 45 lm/W backstop requirement for GSLs. 87 FR 27439 (May 9, 2022). By completing the final backstop rule, DOE has concluded this first cycle of rulemaking. DOE is pursuing the second rulemaking cycle for GSLs under RIN 1904-AF43.

Completed:

Reason | Date | FR Cite
Final Rule Adopting a Definition for GSL | 05/09/22 | 87 FR 27461
Final Rule Adopting a Definition for GSL Effective | 07/08/22
Final Action Backstop Requirement for GSLs | 05/09/22 | 87 FR 27439
Final Rule, Backstop Requirement for GSLs Effective | 07/25/22

Regulatory Flexibility Analysis Required: Yes.

Agency Contact: Stephanie Johnson, Phone: 202 287-1943, Email: stephanie.johnson@ee.doe.gov.

RIN: 1904-AD09

296. Test Procedure for Ceiling Fans [1904-AD88]

Legal Authority: 42 U.S.C. 6293(b)(1) and (16); 42 U.S.C. 6291(49)

Abstract: The U.S. Department of Energy (DOE) has issued a final rule amending its test procedures for ceiling fans established under the Energy Policy and Conservation Act (EPCA), as amended. The final rule amends the test procedures for ceiling fans to include a definition for “circulating air” for the purpose of the ceiling fan definition; include ceiling fans greater than 24 feet within the scope of the test procedure; include certain belt-driven ceiling fans within the scope of the test procedure; specify that certain very small-diameter ceiling fans are not required to be tested; maintain applicability of the standby power test procedure to large-diameter ceiling fans; specify instructions for testing ceiling fans with certain accessories or features; clarify test voltage for large-diameter ceiling fans; amend the low speed definition and increase low speed tolerance for stability criteria; permit an alternate set-up to collect air velocity test data and provide greater specificity regarding sensor orientation; amend the blade thickness measurement requirement; update instrument measurement resolution, represented values, rounding instructions, and enforcement provisions; and codify current guidance on calculating several values reported on the EnergyGuide label. The final rule also includes updated references to the industry test standard to reference the latest version.

Completed:

Reason | Date | FR Cite
Final Rule | 08/16/22 | 87 FR 50396
Final Rule; Correction | 08/26/22 | 87 FR 52433
Final Rule Effective | 09/15/22 |
Final Rule; Technical Amendment | 11/28/22 | 87 FR 72862
Final Rule; Technical Amendment Effective | 11/28/22 |

Regulatory Flexibility Analysis Required: Yes.

Agency Contact: Jeremy Dommu, Phone: 202 586-9870, Email: jeremy.dommu@ee.doe.gov.

RIN: 1904-AD88

297. Test Procedures for Dehumidifying Direct-Expansion Dedicated Outdoor Air Systems [1904-AE46]

Legal Authority: 42 U.S.C. 6314(a)(4)

Abstract: Consistent with the requirements under the Energy Policy and Conservation Act (EPCA), as amended, the U.S. Department of Energy (DOE) has established definitions for “direct expansion-dedicated outdoor air systems” (DXDOASes) and “unitary dedicated outdoor air systems” (unitary DOASes). Unitary DOASes are a category of small, large, and very large commercial package air conditioning and heating equipment under EPCA. In addition, DOE established a test procedure to measure the energy efficiency of DXDOASes, which aligns with the most recent version of the relevant industry consensus test standards for DXDOASes, with certain minor modifications. Lastly, DOE adopted supporting definitions, energy efficiency metrics for dehumidification and heating modes, and provisions governing public representations through a final rule.

For covered equipment addressed in the American Society of Heating, Refrigerating and Air-Conditioning Engineers (ASHRAE) Standard 90.1, the DOE test procedure must be based upon the generally accepted industry testing procedure referenced in that industry consensus standard (42 U.S.C. 6314(a)(4)(A)). The statute further requires that each time the referenced industry test procedure is updated, DOE must amend the Federal test procedure to be consistent with the amended industry test procedure, unless there is clear and convincing evidence that the update would not be representative of an average use cycle or would be unduly burdensome to conduct (42 U.S.C. 6314(a)(4)(B)). Independent of that test procedure review obligation, EPCA also includes a 7-year-look-back review provision for covered commercial and industrial equipment that requires DOE to conduct an evaluation of each class of covered equipment to determine whether amended test procedures would more accurately or fully comply with the requirements that the Federal test procedure be representative of an average use cycle and not be unduly burdensome to conduct (42 U.S.C. 6314(a)(1)). In this test procedure rulemaking, DOE acted under its authority at 42 U.S.C. 6314(a)(4)(B) after determining there is clear and convincing evidence that the industry consensus standard referenced in ASHRAE Standard 90.1 (AHRI 920-2015) would not meet the requirements of 6314(a)(2). Therefore, DOE established the test procedure in alignment with the most recent version of the industry test procedure (AHRI 920-2020) which DOE determined is representative of an average use cycle and is not unduly burdensome to conduct, in accordance with 6314(a)(2). (The NOPR for this rule was mistakenly published in the Federal Register as RIN 1904-AD93 on July 7, 2021).

Completed:

Reason | Date | FR Cite
Final Action | 07/27/22 | 87 FR 45164
Final Action Effective | 08/26/22 |

Regulatory Flexibility Analysis Required: Yes.

Agency Contact: Catherine Rivest, Phone: 202 586-7335, Email: catherine.rivest@ee.doe.gov.

RIN: 1904-AE46

298. Test Procedure for Battery Chargers [1904-AE49]

Legal Authority: 42 U.S.C. 6295(u); 42 U.S.C. 6293(b)(1)

Abstract: The Energy Policy and Conservation Act (EPCA), as amended, requires the U.S. Department of Energy (DOE) to consider every 7 years whether to amend test procedures for battery chargers. In making this determination, DOE must consider whether to amend its test procedures because doing so would more accurately produce test results which measure energy efficiency, or determine not to amend the test procedures. In the final rule, DOE amends the existing test procedures for battery chargers to reorganize certain subsections, clarify symbology and references, correct an incorrect cross reference and section title, update the list of battery chemistries, and terminate an existing test procedure waiver because the covered subject models have been discontinued. This final rule also establishes in new appendix Y1 a new a test procedure for battery chargers that expands coverage to include inductive wireless battery chargers and establishes associated definitions and test provisions; establishes a new test procedure approach that relies on separate metrics for active mode, standby mode, and off mode; and updates the EPS selection criteria. The new test procedure Y1 will be used for the evaluation and issuance of updated efficiency standards, as well as to determine compliance with the updated standards, should such standards be established. This rulemaking fulfills DOE's statutory obligation to either propose amended test procedures for this equipment or determine that the test procedures do not need to be amended.

Completed:

Reason | Date | FR Cite
Final Action | 09/08/22 | 87 FR 55090
Final Action; Correction | 10/07/22 | 87 FR 60867
Final Action Effective | 10/11/22 |

Regulatory Flexibility Analysis Required: Yes.

Agency Contact: Jeremy Dommu, Phone: 202 586-9870, Email: jeremy.dommu@ee.doe.gov.

RIN: 1904-AE49

299. Test Procedures for Electric Motors [1904-AE62]

Legal Authority: 42 U.S.C. 6311(1)(A); 42 U.S.C. 6314(a)(1)

Abstract: The Energy Policy and Conservation Act (EPCA), as amended, requires the U.S. Department of Energy (DOE) to amend the test procedures with respect to electric motors at least once every 7 years, if it determines that amended test procedures would more accurately produce test results measuring the energy efficiency of electric motors, or make a determination not to amend the test procedures. The final rule amends the existing scope of the test procedures for electric motors consistent with related updates to the relevant industry testing standard (i.e., for air-over electric motors, electric motors greater than 500 horsepower, electric motors considered small, inverter-only electric motors, and synchronous electric motors); adds test procedures, an appropriate metric, and supporting definitions for additional electric motors covered under the amended scope; and updates references to industry standards to reference current versions. Furthermore, DOE is adopting certain industry provisions related to the prescribed test conditions to further ensure the comparability of test results. DOE is also amending provisions pertaining to certification testing and the determination of represented values for electric motors other than dedicated-purpose pool pump motors, and re-locating such provisions consistent with the location of the certification requirements for other covered products and equipment. Finally, DOE is adding provisions pertaining to certification testing and the determination of represented values for dedicated-purpose pool pump motors. Now completed, this rulemaking fulfills DOE's statutory obligation to either propose an amended test procedure or determine that the existing test procedure does not need to be amended.

Completed:

Reason | Date | FR Cite
Final Action | 10/19/22 | 87 FR 63588
Final Action; Correction | 10/26/22 | 87 FR 64689
Final Action Effective | 11/18/22 |

Regulatory Flexibility Analysis Required: Yes.

Agency Contact: Jeremy Dommu, Phone: 202 586-9870, Email: jeremy.dommu@ee.doe.gov.

RIN: 1904-AE62

300. Test Procedure for Cooking Tops [1904-AF18]

Legal Authority: 42 U.S.C. 6293(b)(1); 42 U.S.C. 6292(a)(10)

Abstract: The U.S. Department of Energy (DOE) is required to review its test procedures for cooking products, including conventional cooking tops, once every 7 years under the Energy Policy and Conservation Act (EPCA), as amended. In this rulemaking, DOE has established a test procedure for conventional cooking tops, a category of cooking products, under a new appendix. The new test procedure adopts the latest version of the relevant industry standard for electric cooking tops with modifications. The modifications adapt the test method to gas cooking tops, normalize the energy use of each test cycle, include measurement of standby mode and off mode energy use, update certain test conditions, and clarify certain provisions. This final rule retitles the existing cooking products test procedure to specify that it is for microwave ovens only. Through this final rule, DOE fulfills its statutory obligation to either propose new test procedures for this product or determine that new test procedures are not required. This review also satisfies the review requirement under Executive Order 13990, “Protecting Public Health and the Environment and Restoring Science to Tackle the Climate Crisis,” 86 FR 7037 (January 25, 2021).

Completed:

Reason | Date | FR Cite
Final Action | 08/22/22 | 87 FR 51492
Final Action Effective | 09/21/22 |

Regulatory Flexibility Analysis Required: Yes.

Agency Contact: Stephanie Johnson, Phone: 202 287-1943, Email: stephanie.johnson@ee.doe.gov.

RIN: 1904-AF18

[FR Doc. 2023-02270 Filed 2-21-23; 8:45 am]

BILLING CODE 6450-01-P